DEPARTMENT OF HEALTH AND HUMAN SERVICES

Centers for Medicare & Medicaid Services

[Document Identifier: CMS-R-70, CMS-10178, CMS-R-209, and CMS-R-245]

Agency Information Collection Activities: Proposed Collection; Comment Request

AGENCY: Centers for Medicare & Medicaid Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Information Collection Requirements in HSQ-110, Acquisition, Protection and Disclosure of Peer review Organization Information and Supporting Regulations in 42 CFR 480.104, 480.105, 480.116, and 480.134; Use: The Peer Review Improvement Act of 1982 authorizes quality improvement organizations (QIOs), formally known as peer review organizations (PROs), to acquire information necessary to fulfill their duties and functions and places limits on disclosure of the information. The QIOs are required to provide notices to the affected parties when disclosing information about them. These requirements serve to protect the rights of the affected parties. The information provided in these notices is used by the patients, practitioners and providers to: Obtain access to the data maintained and collected on them by the QIOs; add additional data or make changes to existing QIO data; and reflect in the QIO's record the reasons for the QIO's disagreeing with an individual's or provider's request for amendment.; Form Number: CMS-R-70 (OMB#: 0938-0426); Frequency: Reporting—On occasion; Affected Public:Business or other for-profit, individuals or households, not-for-profit institutions, Federal government, and State, Local or Tribal governments; Number of Respondents: 362; Total Annual Responses: 3729; Total Annual Hours: 60,919.

2. Type of Information Collection Request: New collection; Title of Information Collection: Collection of Medicaid and State Children's Health Insurance (SCHIP) Managed Care Claims and Related Information; Use: The Improper Payments Information Act (IPIA) of 2002 (Pub. L. 107-300) requires CMS to produce national error rates in the Medicaid program and the State Children's Health Insurance Program (SCHIP). To comply with the IPIA, CMS will engage a Federal contractor to produce error rates in Medicaid managed care and SCHIP managed care. Beginning in 2007, CMS will use a rotational approach to review up to 18 States for each program, for a total 36 States each year. CMS has completed the State selection process for the Medicaid improper payments measurement. States have not yet been selected for the measurement of improper payments in SCHIP. CMS expects to select the SCHIP States in the fall of 2006.; Form Number: CMS-10178 (OMB#: 0938-NEW); Frequency: Reporting—On occasion, quarterly; Affected Public: State, Local, or Tribal governments; Number of Respondents: 36; Total Annual Responses: 23,400; Total Annual Hours: 23,400.

3. Type of Information Collection Request: Extension of a currently approved collection; Title of Information Collection: Medicare and Medicaid Programs: Reporting OASIS Data as Part of the Conditions of Participation for Home Health Agencies and Supporting Regulations in 42 CFR 484.11 and 484.20; Use: This request is for OMB approval to continue to require home health agencies (HHAs) to electronically report the Outcome and Assessment Information Set (OASIS) data to CMS. OASIS is a requirement of one of the Conditions of Participation (CoP) that HHAs must meet in order to participate in the Medicare program. Specifically, the aforementioned regulation sections provide guidelines for HHAs for the electronic transmission of the OASIS data as well as responsibilities of the State agency or OASIS contractor in collecting and transmitting this information to CMS. These requirements are necessary to achieve broad-based, measurable improvement, in the quality of care furnished through Federal programs, and to establish a prospective payment system for HHAs.; Form Number:CMS-R-209 (OMB#: 0938-0761); Frequency: Reporting—Monthly; Affected Public: Business or other for-profit, not-for-profit institutions, Federal government, State, local, or tribal governments; Number of Respondents: 8,277; Total Annual Responses: 102,203; Total Annual Hours: 1,374,051.

4. Type of Information Collection Request: Extension of a currently approved collection; Title of Information Collection: Medicare and Medicaid Programs OASIS Collection Requirements as Part of the Conditions of Participation for Home Health Agencies and Supporting Regulations in 42 CFR Sections 484.55, 484.205, 484.245, 484.250; Use: The Medicare and Medicaid Programs OASIS Collection Requirements as Part of the Conditions of Participation for Home Health Agencies (HHAs) information collection requires HHAs to use a standard core assessment data set, the Outcome and Assessment Information Set (OASIS), to collect information and to evaluate adult non-maternity patients. In addition, data from the OASIS will be used for purposes of case mix adjusting patients under the home health prospective payment system and will facilitate the production of necessary case mix information at relevant time points in the patient's home health stay.; Form Number: CMS-R-245 (OMB#: 0938-0760); Frequency: Recordkeeping and reporting—Other, upon patient assessment; Affected Public: Business or other for-profit, not-for-profit institutions, Federal government, State, local, or tribal governments; Number of Respondents: 8,277; Total Annual Responses: 11,087,565; Total Annual Hours: 9,339,184.

To obtain copies of the supporting statement and any related forms for the proposed paperwork collections referenced above, access CMS' Web site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received at the address below, no later than 5 p.m. on April 4, 2006. CMS, Office of Strategic Operations and Regulatory Affairs, Division of Regulations Development—B, Attention: William N. Parham, III, Room C4-26-05, 7500 Security Boulevard, Baltimore, Maryland 21244-1850.

Dated: January 25, 2006.
Michelle Shortt,
Director, Regulations Development Group, Office of Strategic Operations and Regulatory Affairs.

[FR Doc. 06-974 Filed 2-2-06; 8:45 am]

BILLING CODE 4120-01-P